DEPARTMENT OF THE INTERIOR

National Park Service

60-Day Notice of Intention to Request Clearance of Collection of Information; Opportunity for Public Comment

AGENCY: National Park Service, Interior.

ACTION: Notice and request for comments.

SUMMARY: Under the provisions of the Paperwork Reduction Act of 1995 (Pub. L. 104-13, 44 U.S.C., Chapter 3507) and 5 CFR part 1320, Reporting and Record Keeping Requirements, the National Park Service (NPS) invites public comments on an extension of a currently approved information collection (OMB #1024-0009).

DATES: Public comments on this notice will be accepted on or before March 13, 2006 to be assured of consideration.

ADDRESSES: Send comments to: Michael J. Auer, Heritage Preservation Services, National Park Service, 1849 C St., NW., Org. code 2255, Washington, DC 20240. E-mail: michael_auer@nps.gov.

To Request Copies of the Document Contact: Michael J. Auer, at the above address. The information collection may also be viewed on-line at: http://www.cr.nps.gov/hps/tps/tax/hpcappl.htm.

FOR FURTHER INFORMATION CONTACT: Michael J. Auer, 202-354-2031.

SUPPLEMENTARY INFORMATION: Title: Historic Preservation Certification Application.

OMB Number: 1024-0009.

Expiration Date of Approval: July 31, 2006.

Type of Request: Extension of a currently approved information collection.

Description of need: Section 47 of the Internal Revenue Code requires that the Secretary of the Interior certify to the Secretary of the Treasury upon application by owners of historic properties for Federal tax benefits: (a) The historic character of the property, and (b) that the rehabilitation work is consistent with that historic character. The NPS administers the program with the Internal Revenue Service. NPS uses the Historic Preservation Certification Application to evaluate the condition and historic significance of buildings undergoing rehabilitation for continued use, and to evaluate whether the rehabilitation work meets the Secretary of the Interior's Standards for Rehabilitation. NPS specifically requests comments on: (1) The need for information including whether the information has practical utility; (2) the accuracy of the reporting burden hour estimate; (3) ways to enhance the quality, utility, and clarity of the information to be collected; and (4) ways to minimize the burden of information collection on respondents, including the use of automated collection techniques or other forms of information technology.

Description of respondents: Individuals or households, businesses or other for-profit entities. Application for Historic Preservation Certifications is voluntary.

Estimated annual reporting burden: 42,000 hours.

Estimated average burden hours per response: 14.0 hours.

Estimated average number of respondents: 3,000 annually.

Estimate frequency of response: 3,000 annually.

Dated: December 19, 2005.
Leonard E. Stowe,
National Park Service Information and Collection Clearance Officer.

[FR Doc. E6-230 Filed 1-11-06; 8:45 am]

BILLING CODE 4312-52-P